DEPARTMENT OF HEALTH AND HUMAN SERVICES

National Institutes of Health

National Heart, Lung, and Blood Institute; Notice of Meeting

Pursuant to section 10(a) of the Federal Advisory Committee Act, as amended, notice is hereby given of a meeting of the Sleep Disorders Research Advisory Board.

The meeting will be open to the public, with attendance limited to space available. Individuals who plan to attend and need special assistance, such as sign language interpretation or other reasonable accommodations, should notify the Contact Person listed below in advance of the meeting.

Name of Committee: Sleep Disorders Research Advisory Board.

Date: March 12, 2019.

Time: 1:00 p.m. to 5:00 p.m.

Agenda: Discuss revision of the NIH Sleep Disorders Research Plan.

Place: National Institutes of Health, 6701 Rockledge Drive, Bethesda, MD 20892 (Virtual Meeting).

Telephone Access: Dial: 650-479-3208, Access Code: 625 685 352.

WebEx Link: https://nih.webex.com/nih/onstage/g.php?MTID=ecaeb0d992f8d2737b357112c4f29fa62.

WeEx Access: Event Number: 325 685 352, Event Password: sdrab2019.

Contact Person: Michael J. Twery, Ph.D., Executive Secretary, Director, National Center on Sleep Disorders Research, Division of Lung Diseases, National Heart, Lung, and Blood Institute, National Institutes of Health, 6701 Rockledge Drive, Suite 10042, Bethesda, MD 20892, 301-435-0199, twerym@nhlbi.nih.gov.

(Catalogue of Federal Domestic Assistance Program Nos. 93.233, National Center for Sleep Disorders Research; 93.837, Heart and Vascular Diseases Research; 93.838, Lung Diseases Research; 93.839, Blood Diseases and Resources Research, National Institutes of Health, HHS)

Dated: February 19, 2019.
Ronald J. Livingston, Jr.,
Program Analyst, Office of Federal Advisory Committee Policy.

[FR Doc. 2019-03151 Filed 2-22-19; 8:45 am]

BILLING CODE 4140-01-P